DEPARTMENT OF HEALTH AND HUMAN SERVICES

Centers for Disease Control and Prevention

[60 Day-10-0488]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. Alternatively, to obtain a copy of the data collection plans and instrument, call 404-639-5960 and send comments to Maryam I. Daneshvar, CDC Reports Clearance Officer, 1600 Clifton Road, NE., MS-D74, Atlanta, Georgia 30333; comments may also be sent by e-mail to omb@cdc.gov.

Comments are invited on (a) whether the proposed collection of information is necessary for the proper performance of the functions of the agency, including whether the information shall have a practical utility; (b) the accuracy of the agency's estimate of the burden of the proposed collection of information; (c) ways to enhance the quality, utility, and clarity of the information to be collected; and (d) ways to minimize the burden of the collection of information on respondents, including through the use of information technology. Written comments should be received within 60 days of this notice.

Proposed Project

Restriction on Travel of Persons (OMB Control No. 0920-0488 Exp.1/31/2010)—Extension—National Center for Preparedness, Detection, and Control of Infectious Diseases (NCPDCID), Centers for Disease Control and Prevention (CDC).

Background and Brief Description

The Centers for Disease Control and Prevention is requesting OMB approval to extend the information collection request, “Restriction on Travel of Persons” (OMB Control No. 0920-0488). This information collection request is scheduled to expire on January 31, 2010.

CDC is authorized to collect this information under 42 CFR 70.5 (Certain communicable diseases; special requirements). This regulation requires that any person who is in the communicable period for cholera, plague, smallpox, typhus, or yellow fever or having been exposed to any such disease is in the incubation period thereof, to apply for and receive a permit from the Surgeon General or his authorized representative in order to travel from one State or possession to another.

Control of disease transmission within the States is considered to be the province of state and local health authorities, with Federal assistance being sought by those authorities on a cooperative basis without application of Federal regulations. The regulations in 42 Part 70 were developed to facilitate Federal action in the event of large outbreaks requiring a coordinated effort involving several states, or in the event of inadequate local control. While it is not known whether, or to what extent situations may arise in which these regulations would be invoked, contingency planning for domestic emergency preparedness is now commonplace. Should these situations arise, CDC will use the reporting and recordkeeping requirements contained in the regulations to carry out quarantine responsibilities as required by law.

There is no cost to respondents other than their time.

Estimate of Annualized Burden Hours
Regulation | Respondent | Number of respondents | Number of responses per respondent | Average burden per response (in hours) | Total burden (in hours)
42 CFR 70.3 Application to the State of Destination for a permit | Traveler Attending physician | 2,000 2,000 | 1 1 | 15/60 15/60 | 500 500
42 CFR 70.3 Copy of material submitted by applicant and permit issued by State health authority | State health authority | 8 | 250 | 6/60 | 200
42 CFR 70.4 Report by the master of a vessel or person in charge of conveyance of the incidence of a communicable disease occurring while in interstate travel | Master of a vessel or person in charge of conveyance | 1,500 | 1 | 15/60 | 375
42 CFR 70.4 Copy of material submitted or state or local health authority under this provision | State health authority | 20 | 75 | 6/60 | 150
42 CFR 70.5 Application for a permit to move from State to State while in the communicable period | Traveler Attending physician | 3,750 |  |  | 938
Total |  |  |  |  | 3,601

Dated: November 20, 2009.
Marilyn S. Radke,
Reports Clearance Officer, Centers for Disease Control and Prevention.

[FR Doc. E9-28489 Filed 11-27-09; 8:45 am]

BILLING CODE 4163-18-P